DEPARTMENT OF THE INTERIOR

Bureau of Land Management

[OR-027-1610-PG; G-02-0223]

Location Change for Steens Mountain Advisory Council Meeting

AGENCY: Bureau of Land Management (BLM), Interior.

ACTION: Change of meeting location for the Steens Mountain Advisory Council.

SUMMARY: The October 21 and 22, 2002, Steens Mountain Advisory Council (SMAC) meeting, previously scheduled to be held at the Bureau of Land Management (BLM), Burns District Office, 28910 Highway 20 West, Hines, Oregon 97738, has been moved to the Holiday Inn Express, 20615 Grandview Drive, Bend, Oregon 97701. The original Federal Register notice announcing the meeting was published on December 5, 2001, page number 63249. The meeting session will begin the first day at 8 a.m., local time, and will end at 5 p.m., local time. The second day will begin at 8 a.m., local time, and will end at approximately 3 p.m., local time. The entire meeting is open to the public. Public comment is scheduled for 11 a.m. to 11:30 a.m., local time, both days of the meeting session.

FOR FURTHER INFORMATION CONTACT: Additional information concerning the SMAC may be obtained from Rhonda Karges, Management Support Specialist, Burns District Office, 28910 Highway 20 West, Hines, Oregon 97738, (541) 573-4433, or Rhonda_Karges@or.blm.gov or from the following web site http://www.or.blm.gov/Steens.

Dated: May 7, 2002.
Miles R. Brown,
Andrews Resource Area Field Manager.

[FR Doc. 02-17342 Filed 7-9-02; 8:45 am]

BILLING CODE 4310-33-P